DEPARTMENT OF ENERGY

Federal Energy Regulatory Commission

Combined Notice of Filings #1

July 12, 2005.

Take notice that the Commission received the following electric rate filings.

Docket Numbers: ER01-205-008; ER98-2640-006; ER98-4590-004; ER99-1610-011.

Applicants: Xcel Energy Services, Inc.; Northern States Power Company and Northern States Power Company (Wisconsin); Public Service Company of Colorado; Southwestern Public Service Company.

Description: Xcel Energy Services, Inc., on behalf of itself and Xcel Energy Operating Companies, namely Northern States Power Company, Northern States Power Company (Wisconsin), Public Service Company of Colorado, and Southwestern Public Service Company submits a change in status report and compliance filing.

Filed Date: 7/1/2005.

Accession Number: 20050708-0162.

Comment Date: 5 p.m. eastern time on Friday, July 22, 2005.

Docket Numbers: ER01-3155-008; EL01-45-016; ER01-1385-017.

Applicants: New York Independent System Operator, Inc.

Description: New York Independent System Operator, Inc. submits revised tariff sheets in compliance with the Commission's 6/16/05 order, 111 FERC 61,399 (2005).

Filed Date: 7/1/2005.

Accession Number: 20050708-0167.

Comment Date: 5 p.m. eastern time on Friday, July 22, 2005.

Docket Numbers: ER02-1785-003.

Applicants: Thermo Cogeneration Partnership L.P.

Description: Thermo Cogeneration Partnership, L.P. submits its triennial market power analysis in support of its market-based rate authorization and revised tariff sheets to incorporate the requirements of Order No. 652.

Filed Date: 7/1/2005.

Accession Number: 20050707-0131.

Comment Date: 5 p.m. eastern time on Friday, July 22, 2005.

Docket Numbers: ER04-901-001.

Applicants: Entergy Services, Inc.

Description: Entergy Services, Inc., as agent for the Entergy Operating Companies, submits revised tariff sheets in compliance with the Commission's order issued 6/1/05, 111 FERC 61,314 (2005).

Filed Date: 7/1/2005.

Accession Number: 20050706-0172.

Comment Date: 5 p.m. eastern time on Friday, July 22, 2005.

Docket Numbers: ER05-6-031; EL04-135-033; EL02-111-051; EL03-212-047

Applicants: Midwest Independent Transmission System Operator, Inc.

Description: Midwest Independent Transmission System Operator, Inc. submits proposed revisions to its Open Access Transmission and Energy Market Tariffs, FERC Electric Rate, Third Revised Volume 1, in compliance with the Commission's order issued 6/10/05, 111 FERC 61,387 (2005).

Filed Date: 6/30/2005.

Accession Number: 20050707-0243.

Comment Date: 5 p.m. eastern time on Thursday, July 21, 2005.

Docket Numbers: ER05-1024-001.

Applicants: PJM Interconnection, LLC.

Description: PJM Interconnection, LLC submits a substitute executed service interconnection agreement with Eastern Landfill, LLC and Baltimore Gas and Electric Company, which amends PJM's 5/25/05 filing in Docket No. ER05-1024-000.

Filed Date: 7/1/2005.

Accession Number: 20050707-0130.

Comment Date: 5 p.m. eastern time on Friday, July 22, 2005.

Docket Numbers: ER05-1181-000.

Applicants: PJM Interconnection L.L.C.

Description: PJM Interconnection LLC submits revisions to Schedule 9 of its open access transmission tariff to change the rate design of its administrative cost recovery from formula rates to stated rates and revisions to its Amended and Restated Operating Agreement.

Filed Date: 7/1/2005.

Accession Number: 20050706-0147.

Comment Date: 5 p.m. eastern time on Friday, July 22, 2005.

Docket Numbers: ER05-1182-000.

Applicants: Xcel Energy Services Inc.

Description: Xcel Energy Services, Inc. on behalf of Public Service Company of Colorado (PSCo) submits a Large Generator Interconnection Agreement between PSCo and Spring Canyon, LLC.

Filed Date: 7/1/2005.

Accession Number: 20050706-0145.

Comment Date: 5 p.m. eastern time on Friday, July 22, 2005.

Docket Numbers: ER05-1183-000.

Applicants: Arizona Public Service Company.

Description: Arizona Public Service Company submits revisions to their open access transmission tariff.

Filed Date: 7/1/2005.

Accession Number: 20050706-0175.

Comment Date: 5 p.m. eastern time on Friday, July 22, 2005.

Docket Numbers: ER05-1184-000.

Applicants: Perryville Energy Partners, L.L.C.

Description: Perryville Energy Partners, LLC submits its open access transmission tariff in compliance with the Commission's Order issued on 3/22/05 in Docket No. ER05-191-000.

Filed Date: 7/1/2005.

Accession Number: 20050706-0176.

Comment Date: 5 p.m. eastern time on Friday, July 22, 2005.

Docket Numbers: ER05-1185-000.

Applicants: New England Power Pool Participants Committee.

Description: The New England Power Pool Participants Committee submits a transmittal letter along with a counterpart signature page of the New England Power Pool Agreement, dated 9/1/71 as amended (second restated NEPOOL agreement) executed by Z-TECH, LLC and a letter from Direct Commodities Trading, Inc. providing notice of the termination of its NEPOOL membership and participation in the New England Market.

Filed Date: 7/1/2005.

Accession Number: 20050706-0149.

Comment Date: 5 p.m. eastern time on Friday, July 22, 2005.

Docket Numbers: ER05-1189-000.

Applicants: Carolina Power & Light Company.

Description: Progress Energy, Inc., on behalf of its subsidiary Carolina Power & Light Company (CP&L) d/b/a Progress Energy Carolinas, Inc., submits (1) a network integration transmission service agreement and network operating agreement between CP&L and North Carolina Eastern Municipal Power Agency (NCEMPA), (2) related amendments to the Power Coordination Agreement between CP&L and NCEMPA, and (3) a 2010 Transition Agreement between CP&E and NCEMPA.

Filed Date: 7/1/2005.

Accession Number: 20050706-0174.

Comment Date: 5 p.m. eastern time on Friday, July 22, 2005.

Docket Numbers: ER05-1192-000.

Applicants: Arizona Public Service Company.

Description: Arizona Public Service Company submits revisions to its Open Access Transmission Tariff to comply with Order 2003-C.

Filed Date: 7/1/2005.

Accession Number: 20050708-0174.

Comment Date: 5 p.m. eastern time on Friday, July 22, 2005.

Docket Numbers: ER05-784-001.

Applicants: California Independent System Operator Corporation.

Description: California Independent System Operator Corporation submits its compliance filing pursuant to FERC's 6/3/05 letter order in Docket No ER05-784-000, et al.

Filed Date: 7/1/2005.

Accession Number: 20050708-0170.

Comment Date: 5 p.m. eastern time on Friday, July 22, 2005.

Docket Numbers: ER91-569-027, ER01-666-004, ER01-1675-002, ER01-1804-003, ER02-862-004.

Applicants: Entergy Services, Inc.; Entergy Arkansas, Inc.; Entergy Gulf States, Inc.; Entergy Louisiana, Inc.; Entergy Mississippi, Inc.; Entergy New Orleans, Inc.; Entergy Power, Inc.; EWO Marketing, L.P.; Entergy Solutions Supply Ltd.; Warren Power, LLC; Entergy Power Ventures, L.P.

Description: Entergy Services, Inc., on behalf of the above-referenced Entergy Affiliates, reports to the Commission a non material change in status pursuant to the reporting requirements of Order 652.

Filed Date: 7/1/2005.

Accession Number: 20050708-0166.

Comment Date: 5 p.m. eastern time on Friday, July 22, 2005.

Docket Numbers: ER96-719-005.

Applicants: MidAmerican Energy Company.

Description: MidAmerican Energy Company submits additional information concerning its domestic energy affiliates and revised market-based rate tariff sheets that include, among other things, the Commission's change of status reporting requirements in compliance with FERC's 6/1/05 Order, 111 FERC 61,320 (2005).

Filed Date: 7/1/2005.

Accession Number: 20050707-0133.

Comment Date: 5 p.m. eastern time on Friday, July 22, 2005.

Docket Numbers: ER98-2535-005.

Applicants: Hafslund Energy Trading LLC.

Description: Hafslund Energy Trading LLC submits its updated triennial market power report in compliance with the Commission's 5/31/05 Order, 111 FERC 61,295 (2005).

Filed Date: 7/1/2005.

Accession Number: 20050707-0132.

Comment Date: 5 p.m. eastern time on Friday, July 22, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Linda Mitry,
Deputy Secretary.

[FR Doc. E5-3800 Filed 7-15-05; 8:45 am]

BILLING CODE 6717-01-P